DEPARTMENT OF COMMERCE

National Oceanic and Atmospheric Administration

50 CFR Part 216

[RTID 0648-XC749]

Draft Conservation Plan for the Eastern Pacific Stock of Northern Fur Seal (Laaqudan)

AGENCY: National Marine Fisheries Service (NMFS), National Oceanic and Atmospheric Administration (NOAA), Commerce.

ACTION: Notice of availability; request for comments.

SUMMARY: The National Marine Fisheries Service (NMFS) announces the availability for public comment the draft Conservation Plan for the Eastern Pacific Stock of Northern Fur Seal (Laaqudan) (Conservation Plan). The Marine Mammal Protection Act (MMPA) requires the Secretary of Commerce to develop a northern fur seal conservation plan for the purpose of conserving and restoring the species or stock to its optimum sustainable population. Accordingly, NMFS published its first conservation plan for the Pribilof Islands population in 1993 and a revised version in 2007. This current revision is required to include the latest research and management changes for the Eastern Pacific stock of northern fur seals (formerly the Pribilof Islands population).

DATES: Comments and information must be received by August 11, 2023.

ADDRESSES: You may submit comments on this document, identified by NOAA-NMFS-2023-0024, by any of the following methods:

• Electronic Submission: Submit all electronic public comments via the Federal eRulemaking Portal. Go to https://www.regulations.gov and enter NOAA-NMFS-2023-0024 in the Search box. Click the “Comment Now!” icon, complete the required fields, and enter or attach your comments.

• Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the draft Conservation Plan for the Eastern Pacific Stock of Northern Fur Seal (Laaqudan) are available at: https://www.regulations.gov/docket/NOAA-NMFS-2023-0024, can be sent via email, or the NMFS Alaska Region website: https://www.fisheries.noaa.gov/species/northern-fur-seal#conservation-management.

FOR FURTHER INFORMATION CONTACT: Michael Williams, NMFS Alaska Region, 907-271-5117, michael.williams@noaa.gov.

SUPPLEMENTARY INFORMATION:

Background

The Eastern Pacific (formerly Pribilof) stock of northern fur seals was listed as depleted under the MMPA on June 17, 1988, because the population had declined by over 50 percent from the highest population levels estimated in the 1940s and early 1950s (53 FR 17888, May 18, 1988). NMFS developed a Conservation Plan to conserve and restore the stock to its optimum sustainable population (OSP), which is defined as a population size within a range of population sizes from the largest supportable within the ecosystem (i.e., carrying capacity) to a level that results in maximum net productivity (50 CFR 216.3). The first Conservation Plan was published in 1993 and a revised version was published in 2007.

Overall, the stock has continued to decline at about 2 percent per year since the depleted listing, and differences exist in trends in abundance and ecology among St. Paul, St. George, and Bogoslof islands and rookery complexes. Preliminary estimates of age class survival rates since 2010 are similar for both St. Paul and St. George islands; however, since trends in abundance are significantly different (i.e., declining on St. Paul and increasing on St. George) our assumptions regarding site fidelity, emigration, and detection are biased and we are investigating corrections.

Mapping fur seal use of Bering Sea marine foraging areas, characterizing diving, and estimating diet are new additions to the draft Conservation Plan. Improved estimates of fur seal consumption of commercially important prey like pollock, age-specific growth, and bioenergetics have increased the accuracy of ecosystem models to characterize fur seal and prey population dynamics. These new model results have the opportunity to advance ecosystem-based fisheries management to include fur seals where appropriate. Based on these recent model results, it is estimated that the northern fur seal population is one of the top four natural predators of pollock biomass, and consumes both 0-2 year old and 3+ year old pollock. The extent of competition with the pollock fisheries is uncertain due to the spatial segregation of foraging fur seals among the islands, rookery complexes, and in-season changes in the distribution of various segments of the commercial pollock fleet.

Another notable revision to this draft Conservation Plan is the reflection of recent subsistence use regulation changes and the evolution of tribal co-management relationships. The Conservation Plan revision includes valuable input and contributions from the Aleut Community of St. Paul Island and the Traditional Council of St. George Island, and recognizes Unangan contributions to management and research. As fur seal subsistence use is paramount to the cultural identity of Pribilovians, NMFS used Unangam tunuu (i.e., Aleut language) words where appropriate.

The primary goal of the draft Conservation Plan is to facilitate recovery of the Eastern Pacific stock of northern fur seals to OSP and work towards re-designation as a non-depleted stock. Four objectives are proposed to achieve this goal: (1) Identify and reduce human caused mortality of the Eastern Pacific stock of northern fur seals, (2) Assess and avoid or mitigate adverse effects of human related activities on or near the Pribilof Islands and other habitat essential to the survival and recovery of the Eastern Pacific stock of northern fur seals, (3) Continue and, as necessary, expand research and management programs to monitor trends and detect natural or human-related causes of change in the northern fur seal stock and habitats essential to its survival and recovery, and (4) Coordinate and assess the implementation of the Conservation Plan. The revised Conservation Plan includes updated knowledge of threats, possible causes of decline, critical information gaps, conservation actions and initiatives completed, and research and management actions intended to promote conservation and recovery of the population. The shared resources and cooperative involvement of Federal, state, and tribal governments, Alaska Natives and Alaska Native Organizations, industry, academia, non-governmental organizations, and other stakeholders will be required throughout the recovery period. NMFS is seeking public comment on the draft Conservation Plan, as well as available information on northern fur seal ecology and behavior, threats, gaps in information, and potential research and management actions to promote conservation and recovery.

Dated: June 5, 2023.
Catherine G. Marzin,
Deputy Director, Office of Protected Resources, National Marine Fisheries Service.

[FR Doc. 2023-12388 Filed 6-9-23; 8:45 am]

BILLING CODE 3510-22-P